DEPARTMENT OF COMMERCE

National Oceanic and Atmospheric Administration

RIN 0648-XB173

Marine Mammals; File No. 16919

AGENCY: National Marine Fisheries Service (NMFS), National Oceanic and Atmospheric Administration (NOAA), Commerce.

ACTION: Notice; issuance of permit.

SUMMARY: Notice is hereby given that a permit has been issued to Eye of the Whale (Olga von Ziegesar, Responsible Party and Principal Investigator), P.O. Box 15191, Fitz Creek, AK 99603 to conduct research on humpback whales (Megaptera novaeangliae).

ADDRESSES: The permit and related documents are available for review upon written request or by appointment in the following offices:

Permits and Conservation Division, Office of Protected Resources, NMFS, 1315 East-West Highway, Room 13705, Silver Spring, MD 20910; phone (301)427-8401; fax (301)713-0376; and

Alaska Region, NMFS, P.O. Box 21668, Juneau, AK 99802-1668; phone (907)586-7221; fax (907)586-7249.

FOR FURTHER INFORMATION CONTACT: Amy Hapeman or Carrie Hubard, (301)427-8401.

SUPPLEMENTARY INFORMATION: On May 11, 2012, notice was published in the Federal Register (77 FR 27717) that a request for a permit to conduct research on humpback whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The Permit Holder has been issued a five-year scientific research permit to continue a long-term census of humpback whales in Prince William Sound and adjacent waters of Alaska. Researchers are authorized 200 takes annually to closely approach whales by vessel for counts, photo-identification and behavioral observation. The purpose of the work is to better define whale abundance, distribution, reoccurrence of old individuals vs. new individuals, feeding habits, vital rates, associations between animals, and sex of individual whales.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on October 9, 2012.

As required by the ESA, issuance of this permit was based on a finding that such permit: (1) Was applied for in good faith; (2) will not operate to the disadvantage of such endangered species; and (3) is consistent with the purposes and policies set forth in section 2 of the ESA.

Dated: January 10, 2013.
P. Michael Payne,
Chief, Permits and Conservation Division, Office of Protected Resources, National Marine Fisheries Service.

[FR Doc. 2013-00830 Filed 1-15-13; 8:45 am]

BILLING CODE 3510-22-P